DEPARTMENT OF THE INTERIOR

National Park Service

[NPS-WASO-NAGPRA-10774; 2200-1100-665]

Notice of Intent to Repatriate Cultural Items: Maxwell Museum of Anthropology, University of New Mexico, Albuquerque, NM

AGENCY: National Park Service, Interior.

ACTION: Notice.

SUMMARY: The Maxwell Museum of Anthropology, in consultation with the Pueblo of Santa Ana, New Mexico, has determined that a collection of cultural items from the Paa-ko Pueblo site meets the definition of unassociated funerary objects. Repatriation to the Pueblo of Santa Ana may occur if no additional claimants come forward. Representatives of any Indian tribe that believes itself to be culturally affiliated with the unaffiliated funerary objects may contact the Maxwell Museum.

DATES: Representatives of any Indian tribe that believes it has a cultural affiliation with the cultural items should contact the Maxwell Museum of Anthropology at the address below by September 4, 2012.

ADDRESSES: David Phillips, Curator of Archaeology, Maxwell Museum of Anthropology, MSC01 1050, University of New Mexico, Albuquerque, NM 87131, telephone (505) 277-9229.

SUPPLEMENTARY INFORMATION: Notice is hereby given in accordance with the Native American Graves Protection and Repatriation Act (NAGPRA), 25 U.S.C. 2005, of the intent to repatriate cultural items in possession of the Maxwell Museum of Anthropology, University of New Mexico, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1949, the University of New Mexico (UNM) conducted an archaeological field school at the Paa-ko Pueblo site (LA 162), a village occupied in late prehistoric and early historical times. Catalogue No. 2006.30.1 comprises three bowl fragments found with a burial probably exposed during the 1949 field school. Catalogue No. 2010.44.1 is a bowl from a looted burial. The bowl was surrendered to the Maxwell Museum of Anthropology. The location of the human remains from these burials is unknown.

The Pueblo of Santa Ana, New Mexico, claims ties of direct descent from villagers who resided at the Paa-ko Pueblo site and is seeking repatriation of funerary objects from the site. After repatriation, the funerary objects will be reburied at the Paa-ko site. Repatriation and reburial of the unassociated funerary objects described in this notice will be coordinated with repatriation and reburial of human remains from this site, which will be described in a separate Notice of Inventory Completion.

Determination Made by the Maxwell Museum of Anthropology

The Collections and Research Committee of the Maxwell Museum of Anthropology has determined that:

• Pursuant to 25 U.S.C. 3001(3)(B), the four unassociated funerary objects described above are reasonably believed to have been placed with or near individual human remains at the time of death or later as part of a death rite or ceremony and are believed, by a preponderance of the evidence, to have been removed from a specific burial site of a Native American individual.

• Pursuant to 25 U.S.C. 3001(2), there is a relationship of shared group identity that can be reasonably traced between the unassociated funerary objects and Pueblo of Santa Ana, New Mexico.

Additional Representations and Disposition

Representatives of any Indian tribe that believes itself to be culturally affiliated with the unassociated funerary objects should contact David Phillips, Curator of Archaeology, Maxwell Museum of Anthropology, MSC01 1050, University of New Mexico, Albuquerque, NM 87131, telephone (505) 277-9229, before September 4, 2012. Repatriation of the unassociated funerary objects to the Pueblo of Santa Ana, New Mexico, may proceed after that date if no additional claimants come forward.

The Maxwell Museum is responsible for notifying the Pueblo of Santa Ana, New Mexico, that this notice has been published.

Dated: July 5, 2012.
Mariah Soriano,
Acting Manager, National NAGPRA Program.

[FR Doc. 2012-18927 Filed 8-1-12; 8:45 am]

BILLING CODE 4312-50-P